FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than July 19, 2021.

A. Federal Reserve Bank of Minneapolis (Chris P. Wangen, Assistant Vice President), 90 Hennepin Avenue, Minneapolis, Minnesota 55480-0291:

1. The Lorene M. Roberton Testamentary Trust, James T. Roberton, individually, and as trustee, both of Ramsey, Minnesota; as members of the Roberton Family Control Group, a group acting in concert, to retain voting shares of Rushford State Bancorp, Inc., and thereby indirectly retain voting shares of Rushford State Bank, both of Rushford, Minnesota.

B. Federal Reserve Bank of Chicago (Colette A. Fried, Assistant Vice President) 230 South LaSalle Street, Chicago, Illinois 60690-1414:

1. Abigail Goodenow, West Des Moines, Iowa; Nicholas Goodenow, Okoboji, Iowa; John M. Blum, Centennial, Colorado; and Katie Blum Cone, Storm Lake, Iowa; to join the Goodenow Family Control Group, a group acting in concert, to retain voting shares of Goodenow Bancorporation, Okoboji, Iowa, and thereby indirectly retain voting shares of Bank Midwest, Spirit Lake, Iowa.

Board of Governors of the Federal Reserve System, June 29, 2021.
Michele Taylor Fennell,
Deputy Associate Secretary of the Board.

[FR Doc. 2021-14215 Filed 7-1-21; 8:45 am]

BILLING CODE P